DEPARTMENT OF COMMERCE

International Trade Administration

[A-570-601]

Tapered Roller Bearings and Parts Thereof, Finished and Unfinished, From the People's Republic of China: Initiation of Antidumping Duty Changed Circumstances Review

AGENCY: Import Administration, International Trade Administration, Department of Commerce.

SUMMARY: The Department of Commerce (the Department) has received information sufficient to warrant initiation of a changed circumstances review of the antidumping duty order of tapered roller bearings and parts thereof, finished and unfinished (TRBs), from the People's Republic of China (PRC). Specifically, Shanghai General Bearing Company, Ltd. (SGBC) notified the Department that it became part of the SKF Group in 2012. As a result, SGBC has requested that the Department determine that it is the successor-in-interest to the pre-merger entity (also known as SGBC), a company which the Department revoked from the order on TRBs from the PRC in 1997. In response to this request, the Department is initiating this changed circumstances review.

DATES: Effective Date: June 28, 2013.

FOR FURTHER INFORMATION CONTACT: Elizabeth Eastwood or Stephen Banea, AD/CVD Operations, Office 2, Import Administration, International Trade Administration, U.S. Department of Commerce, 14th Street and Constitution Avenue NW., Washington, DC 20230; telephone: (202) 482-3874 or (202) 482-0656, respectively.

SUPPLEMENTARY INFORMATION:

Background

On June 15, 1987, the Department published in the Federal Register the antidumping duty order on TRBs from the PRC.¹ On February 11, 1997, the Department revoked the order on TRBs from the PRC with respect to merchandise produced and exported by the pre-merger SGBC.²

¹ See Antidumping Duty Order; Tapered Roller Bearings and Parts Thereof, Finished or Unfinished, From the People's Republic of China, 52 FR 22667 (June 15, 1987).

² See Tapered Roller Bearings and Parts Thereof, Finished and Unfinished, From the People's Republic of China: Final Results of Antidumping Duty Administrative Review and Revocation in Part of Antidumping Duty Order, 62 FR 6189 (Feb. 11, 1997).

Effective August 1, 2012, the majority shareholder of SGBC merged with a subsidiary of the SKF Group and, as a result of the merger, both SGBC and its majority shareholder became part of the SKF Group. On February 13, 2013, SGBC requested that the Department conduct a changed circumstances review pursuant to 19 CFR 351.221(c)(3)(ii) to determine that it is the successor-in-interest to SGBC as it existed prior to the merger.

On March 22, 2013, the Department requested that SGBC supplement its request for a changed circumstances review by providing additional information regarding the merger and other supporting documentation. On May 9, 2013, SGBC responded to the Department's request.³

³ See SGBC's May 9, 2013, submission.

Scope of the Order

Imports covered by the order are shipments of tapered roller bearings and parts thereof, finished and unfinished, from the People's Republic of China; flange, take up cartridge, and hanger units incorporating tapered roller bearings; and tapered roller housings (except pillow blocks) incorporating tapered rollers, with or without spindles, whether or not for automotive use. These products are currently classifiable under Harmonized Tariff Schedule of the United States (HTSUS) item numbers 8482.20.00, 8482.91.00.50, 8482.99.15, 8482.99.45, 8483.20.40, 8483.20.80, 8483.30.80, 8483.90.20, 8483.90.30, 8483.90.80, 8708.70.60.60, 8708.99.23.00, 8708.99.48.50, 8708.99.68.90, 8708.99.81.15, and 8708.99.81.80. Although the HTSUS item numbers are provided for convenience and customs purposes, the written description of the scope of the order is dispositive.

Initiation of Changed Circumstances Review

Pursuant to section 751(b)(1) of the Tariff Act of 1930, as amended (the Act), the Department will conduct a changed circumstances review upon receipt of information concerning, or a request from an interested party for a review of, an antidumping duty order which shows changed circumstances sufficient to warrant a review of the order. In accordance with 19 CFR 351.216(d), the Department finds there is sufficient information to warrant initiating a changed circumstances review because SGBC has provided evidence that it is now part of the SKF Group as a result of a merger in 2012. Therefore, pursuant to section 751(b)(1) of the Act and 19 CFR 351.216(d), we are initiating a changed circumstances review to determine whether SGBC is the successor-in-interest to SGBC as it existed prior to the merger.

The Department will publish in the Federal Register a notice of preliminary results of the changed circumstances review in accordance with 19 CFR 351.221(b)(4) and 351.221(c)(3)(i), which will set forth the Department's preliminary factual and legal conclusions. Pursuant to 19 CFR 351.221(b)(4)(ii), interested parties will have an opportunity to comment on the preliminary results. The Department will issue its final results of review in accordance with the time limits set forth in 19 CFR 351.216(e).

This notice is in accordance with section 751(b)(1) of the Act.

Dated: June 21, 2013.
Christian Marsh,
Deputy Assistant Secretary for Antidumping and Countervailing Duty Operations.

[FR Doc. 2013-15458 Filed 6-27-13; 8:45 am]

BILLING CODE 3510-DS-P